DEPARTMENT OF THE INTERIOR

National Park Service

[NPS-PWR-TUSK-35082; PPPWTUSK00, PPMPSPD1Z.YM0000]

Request for Nominations for the Tule Springs Fossil Beds National Monument Advisory Council

AGENCY: National Park Service, Interior.

ACTION: Request for nominations.

SUMMARY: The National Park Service (NPS), U.S. Department of the Interior, is requesting nominations for qualified persons to serve as members of the Tule Springs Fossil Beds National Monument Advisory Council (Council).

DATES: Written nominations must be postmarked by March 13, 2023.

ADDRESSES: Nominations should be sent to Derek Carter, Superintendent, Tule Springs Fossil Beds National Monument, 601 Nevada Way, Boulder City, Nevada 89005, or email at derek_carter@nps.gov.

FOR FURTHER INFORMATION CONTACT: Derek Carter, via telephone (702) 902-0431. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council was established by section 3092 (a)(6) of Public Law 113-291, and in accordance with the provisions of the Federal Advisory Committee Act (5 U.S.C. 10). The purpose of the Council is to provide the Secretary of the Interior (Secretary) and the NPS guidance for the management of the Monument.

The Council is composed of 10 members, appointed by the Secretary to 3-year terms, and consists of the following members: one representative of the County Commission; one representative appointed by the city council of Las Vegas, Nevada; one representative appointed by the city council of North Las Vegas, Nevada; one member appointed by the tribal council of the Las Vegas Paiute Tribe; one representative of the conservation community in southern Nevada; one representative of Nellis Air Force Base; one member who resides in the County and has a background that reflects the purpose for which the Monument was established; and two members who reside in Clark County or adjacent counties, both of whom shall have experience in the field of paleontology, obtained through higher education, experience, or both.

Individuals selected to serve as members who reside in the Clark County or adjacent counties and have experience in the field of paleontology, obtained through higher education, experience, or both, will be appointed as special Government employees (SGEs). Individuals selected from the other categories will be appointed as representative members. Please be aware that members selected to serve as SGEs will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact (202) 208-7960 or DOI_Ethics@sol.doi.gov with any questions about the ethics requirements for members appointed as SGEs.

We are currently seeking one member who resides in Clark County or adjacent counties, who shall have experience in the field of paleontology, obtained through higher education, experience, or both, and one representative appointed by the city council of Las Vegas. Nominations should be typed and should include a resume providing an adequate description of the nominee's qualifications, including information that would enable the Department of the Interior to make an informed decision regarding meeting the membership requirements of the Council and permit the Department to contact a potential member. All documentation, including letters of recommendation, must be compiled and submitted in one complete package. All those interested in membership, including current members whose terms are expiring, must follow the same nomination process. Members may not appoint deputies or alternates.

Members of the Council serve without compensation. However, while away from their homes or regular places of business in the performance of services for the Council as approved by the NPS, members may be allowed travel expenses, including per diem in lieu of subsistence, in the same manner as persons employed intermittently in Government service are allowed such expenses under section 5703 of Title 5 of the United States Code.

Authority: 5 U.S.C. 10.

Alma Ripps,
Chief, Office of Policy.

[FR Doc. 2023-02914 Filed 2-9-23; 8:45 am]

BILLING CODE 4312-52-P